GENERAL SERVICES ADMINISTRATION

48 CFR Parts 515, 516 and 552

[GSAR Case 2021-G502; Docket No. 2022-0021; Sequence No. 1]

RIN 3090-AK70

General Services Administration Acquisition Regulation GSAR); GSAR Clause Matrix Update

AGENCY: Office of Acquisition Policy, General Services Administration (GSA).

ACTION: Final rule.

SUMMARY: The General Services Administration (GSA) is issuing this final rule amending the General Services Administration Acquisition Regulation (GSAR) to make editorial changes. This technical amendment includes correcting GSAR provision and clause designation and prescription errors as well as fixing mistakes regarding the incorporation of GSAR provisions and clauses.

DATES: Effective: December 15, 2022.

FOR FURTHER INFORMATION CONTACT: Ms. Kathryn Carlson or Mr. Bryon Boyer, GSA Acquisition Policy Division, for clarification of content at 817-850-5580 or email gsarpolicy@gsa.gov. For information pertaining to status or publication schedules, contact the Regulatory Secretariat at 202-501-4755. Please cite GSAR Case 2021-G502.

SUPPLEMENTARY INFORMATION:

I. Discussion and Analysis

This final rule amends the GSAR to make editorial corrections. As part of GSA's regulatory reform efforts, GSA made updates to the GSAM Matrix of Provisions and Clauses. During this process, designation and prescription errors connected to these GSAR clauses and provisions were found. This technical amendment corrects these designations and prescription errors and revises language regarding the incorporation of these provisions and clauses. There are no significant content changes to the GSAR as a result of this technical amendment.

II. Executive Order 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of Executive Order 12866, Regulatory Planning and Review, dated September 30, 1993.

III. Congressional Review Act

Subtitle E of the Small Business Regulatory Enforcement Fairness Act of 1996 (codified at 5 U.S.C. 801-808), also known as the Congressional Review Act or CRA, generally provides that before a major rule may take effect, the agency promulgating the rule must submit a rule report, which includes a copy of the rule, to each House of the Congress and to the Comptroller General of the United States. The General Services Administration will submit a report containing this rule and other required information to the U.S. Senate, the U.S. House of Representatives, and the Comptroller General of the United States. A major rule under the CRA cannot take effect until 60 days after it is published in the Federal Register. This rule is not a major rule under 5 U.S.C. 804(2).

IV. Publication for Public Comment Is Not Required

The statute that applies to the publication of the GSAR is the Office of Federal Procurement Policy statute (codified at title 41 of the United States Code). Specifically, 41 U.S.C. 1707(a)(1) requires that a procurement policy, regulation, procedure or form (including an amendment or modification thereof) must be published for public comment if it relates to the expenditure of appropriated funds, and has either a significant effect beyond the internal operating procedures of the agency issuing the policy, regulation, procedure, or form, or has a significant cost or administrative impact on contractors or offerors. This rule is not required to be published for public comment, because it is a technical amendment that does not have a significant effect or impose any new requirements on contractors or offerors. This rule simply makes editorial changes.

V. Regulatory Flexibility Act

The Regulatory Flexibility Act (5 U.S.C. 601 et seq.) does not apply to this rule, because an opportunity for public comment is not required to be given for this rule under 41 U.S.C. 1707(a)(1) (see Section IV. of this preamble). Accordingly, no regulatory flexibility analysis is required and none has been prepared.

VI. Paperwork Reduction Act

This final rule does not contain any information collection requirements under the Paperwork Reduction Act (44 U.S.C. chapter 35).

List of Subjects in 48 CFR Parts 515, 516, and 552

Government procurement.

Jeffrey A. Koses,
Senior Procurement Executive, Office of Acquisition Policy, Office of Government-wide Policy, General Services Administration.

Therefore, GSA amends 48 CFR parts 515, 516, and 552 as set forth below:

1. The authority citation for 48 CFR parts 515, 516, and 552 continues to read as follows:

Authority: 40 U.S.C. 121(c).

PART 515—CONTRACTING BY NEGOTIATION

515.408 [Amended]

2. Amend section 515.408 by removing from paragraph (d) “552.215-72” and adding “552.215-75” in its place.

PART 516—TYPES OF CONTRACT

3. Amend section 516.506 by adding a sentence at the end of paragraph (b) to read as follows:

516.506 Solicitation provisions and contract clauses.

* * * * *

(b) * * * Use 552.216-73 Alternate I when 552.216-72 Alternate I is prescribed.

* * * * *

PART 552—SOLICITATION PROVISIONS AND CONTRACT CLAUSES

4. Amend section 552.102 by—

a. Removing from paragraph (b) introductory text the word “not”; and

b. Revising paragraph (b)(3).

The revision reads as follows:

552.102 Incorporating provisions and clauses.

* * * * *

(b) * * *

(3) It is identified as a deviation that has not been incorporated into the GSAM or FAR, as applicable (e.g., acquisition letter) (see 501.370(a)); or”

* * * * *

5. In section 552.236-21 amend Alternate I by—

a. Revising the date; and

c. Removing from the introductory text “536.521” and adding “536.521(a)” in its place.

The revision reads as follows:

552.236-21 Specifications and Drawings for Construction.

* * * * *

Alternate I (DEC 2022) * * *

* * * * *

6. In section 552.236-71 amend Alternate I by—

a. Revising the date; and

b. In the introductory text removing “536.571” and adding “536.571(a) in its place.

The revision reads as follows:

552.236-71 Contractor Responsibilities.

* * * * *

Alternate I (DEC 2022) * * *

* * * * *

7. In section 552.238-70 amend Alternate I by—

a. Revising the date; and

b. In the introductory text removing “538.273(a)(1)(i)” and “provision.” and adding “538.273(a)(1)” and “provision:” in their places, respectively.

The revision reads as follows:

552.238-70 Cover Page for Worldwide Federal Supply Schedules

* * * * *

Alternate I (DEC 2022) * * *

* * * * *

[FR Doc. 2022-26703 Filed 12-14-22; 8:45 am]

BILLING CODE 6820-EP-P